DEPARTMENT OF AGRICULTURE

Agricultural Marketing Service

Designation of Amarillo Grain Exchange, Inc. To provide Class X or Class Y Weighing Services

AGENCY: Agricultural Marketing Service, USDA.

ACTION: Notice.

SUMMARY: The Agricultural Marketing Service (AMS) is announcing the designation of Amarillo Grain Exchange, Inc. (Amarillo) to provide Class X or Class Y weighing services under the United States Grain Standards Act (USGSA), as amended.

DATES: Effective July 1, 2020.

FOR FURTHER INFORMATION CONTACT: Austyn Hughes, (816) 891-0456 or FGISQACD@usda.gov.

SUPPLEMENTARY INFORMATION: In the December 12, 2016, Federal Register (81 FR 89428), AMS announced the designation of Amarillo to provide official services under the USGSA, effective October 1, 2016, to September 30, 2021. Subsequently, Amarillo asked AMS to amend their designation to include official weighing services. The USGSA authorizes the Secretary to designate authority to perform official weighing to an agency providing official inspection services within a specified geographic area, if such agency is qualified under 7 U.S.C. 79. Under 7 U.S.C. 79(a), AMS evaluated information regarding the designation criteria in section 7 U.S.C. 79 and determined that Amarillo is qualified to provide official weighing services in their currently assigned geographic area. Therefore, Amarillo's designation is amended to include Class X or Class Y weighing within their assigned geographic area, effective July 1, 2020, to September 30, 2021. Interested persons may obtain official services by contacting Amarillo at (806) 372-8511.

Authority: 7 U.S.C. 71-87k.

Bruce Summers,
Administrator, Agricultural Marketing Service.

[FR Doc. 2020-26881 Filed 12-7-20; 8:45 am]

BILLING CODE P